DEPARTMENT OF VETERANS AFFAIRS

[OMB Control No. 2900-0518]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before February 12, 2001.

FOR FURTHER INFORMATION CONTACT: Denise McLamb, Information Management Service (045A4), Department of Veterans Affairs, 810 Vermont Avenue, NW., Washington, DC 20420, (202) 273-8135 or FAX (202) 273-5981. Please refer to “OMB Control No. 2900-0518.”

SUPPLEMENTARY INFORMATION: Title: Income Verification, VA Form 21-0161a.

OMB Control Number: 2900-0518.

Type of Review: Reinstatement, without change, of a previously approved collection for which approval has expired.

Abstract: VA's compensation and pension programs require the accurate reporting of income by those who are in receipt of income-dependent benefits. VA Form 21-0161a solicits information from employers of beneficiaries who have been identified as having inaccurately reported their income to VA.

An agency may not conduct or sponsor, and a person is not required to respond to a collection of information unless it displays a currently valid OMB control number. The Federal Register notice with a 60-day comment period soliciting comments on this collection of information was published on August 31, 2000 at page 53092.

Affected Public: Business or other for-profit; Not-for-profit institutions; Farms; and State, Local, or Tribal Government.

Estimated Annual Burden: 57,000 hours.

Estimated Average Burden Per Respondent: 30 minutes.

Frequency of Response: On occasion.

Estimated Number of Respondents: 114,000.

Send comments and recommendations concerning any aspect of the information collection to VA's OMB Desk Officer, OMB Human Resources and Housing Branch, New Executive Office Building, Room 10235, Washington, DC 20503 (202) 395-7316. Please refer to “OMB Control No. 2900-0518” in any correspondence.

Dated: December 1, 2000.
By direction of the Secretary.
Barbara H. Epps,
Management Analyst, Information Management Service.

[FR Doc. 01-829 Filed 1-10-01; 8:45 am]

BILLING CODE 8320-01-P